DEPARTMENT OF TRANSPORTATION

Federal Aviation Administration

[Summary Notice No. PE-2001-92]

Petitions for Exemption; Summary of Dispositions of Petitions Issued

AGENCY: Federal Aviation Administration (FAA), DOT.

ACTION: Notice of Disposition of prior petitions.

SUMMARY: Pursuant to FAA's rulemaking provisions governing the application, processing, and disposition of petitions for exemption part 11 of Title 14, Code of Federal Regulations (14 CFR), this notice contains a summary of dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Forest Rawls (202) 267-8033, Sandy Buchanan-Sumter (202) 267-7271, or Vanessa Wilkins (202) 267-8029, Office of Rulemaking (ARM-1), Federal Aviation Administration, 800 Independence Avenue, SW., Washington, DC 20591.

This notice is published pursuant to 14 CFR 11.85 and 11.91.

Issued in Washington, DC, on November 29, 2001.
Donald P. Byrne,
Assistant Chief Counsel for Regulations.

Disposition of Petitions

Docket No.: FAA-2001-10789 (previously Docket No. 29903).

Petitioner: Bain Aviation, Inc., dba Tavaero Jet Charter, Inc.

Section of 14 CFR Affected: 14 CFR 135.143(c)(2).

Description of Relief Sought/Disposition: To permit TJC to operate certain aircraft under part 135 without a TSO-C112 (Mode S) transponder installed in the aircraft.

Grant, 11/13/2001, Exemption No. 7146A.

Docket No.: FAA-2001-10793 (previously Docket No. 29116).

Petitioner: Taconite Aviation, Inc.

Section of 14 CFR Affected: 14 CFR 135.143(c)(2).

Description of Relief Sought/Disposition: To permit TAI to operate certain aircraft under part 135 without a TSO-C112 (Mode S) transponder installed in the aircraft.

Grant, 11/13/2001, Exemption No. 6735B.

Docket No.: FAA-2001-9618 (previously Docket No. 24165).

Petitioner: U.S. Air Force.

Section of 14 CFR Affected: 14 CFR 91.209(a) and (b).

Description of Relief Sought/Disposition: To permit the USAF to conduct helicopter night-vision flight training operations without lighted aircraft position lights at or below 500 feet above ground level.

Grant, 11/13/2001, Exemption No. 5891B.

Docket No.: FAA-2001-10790 (previously Docket No. 27118).

Petitioner: Air Logistics, L.L.C.

Section of 14 CFR Affected: 14 CFR 135.143(c)(2).

Description of Relief Sought/Disposition: To permit Air Logistics to operate certain aircraft under part 135 without a TSO-C112 (Mode S) transponder installed in the aircraft.

Grant, 11/13/2001, Exemption No. 6736B.

Docket No.: FAA-2001-10920.

Petitioner: Yute Air Taxi, Inc.

Section of 14 CFR Affected: 14 CFR 135.143(c)(2).

Description of Relief Sought/Disposition: To permit YAT to operate certain aircraft under part 135 without a TSO-C112 (Mode S) transponder installed in the aircraft.

Grant, 11/13/2001, Exemption No. 7658.

Docket No.: FAA-2001-10838.

Petitioner: Frontline Aviation, Inc.

Section of 14 CFR Affected: 14 CFR 135.143(c)(2).

Description of Relief Sought/Disposition: To permit FAI to operate certain aircraft under part 135 without a TSO-C112 (Mode S) transponder installed in the aircraft.

Grant, 11/13/2001, Exemption No. 7660.

Docket No.: FAA-2001-10839.

Petitioner: Alaska Flying Tours.

Section of 14 CFR Affected: 14 CFR 135.143(c)(2).

Description of Relief Sought/Disposition: To permit AFT to operate certain aircraft under part 135 without a TSO-C112 (Mode S) transponder installed in the aircraft.

Grant, 11/13/2001, Exemption No. 7657.

Docket No.: FAA-2001-10927.

Petitioner: Miller Aero Services, Inc.

Section of 14 CFR Affected: 14 CFR 135.143(c)(2).

Description of Relief Sought/Disposition: To permit MAS to operate certain aircraft under part 135 without a TSO-C112 (Mode S) transponder installed in the aircraft.

Grant, 11/13/2001, Exemption No. 7659.

Docket No.: FAA-2001-10853 (previously Docket No. 29783).

Petitioner: Indiaanapolis Aviation, Inc.

Section of 14 CFR Affected: 14 CFR 135.143(c)(2).

Description of Relief Sought/Disposition: To permit IAI to operate certain aircraft under part 135 without a TSO-C112 (Mode S) transponder installed in the aircraft.

Grant, 11/13/2001, Exemption No. 7082A.

[FR Doc. 01-30131 Filed 12-4-01; 8:45 am]

BILLING CODE 4910-13-M